ELECTION ASSISTANCE COMMISSION

Notice of Federal Advisory Committee Charter Renewals

AGENCY: U.S. Election Assistance Commission.

ACTION: Notice of Federal Advisory Committee Charter renewals.

SUMMARY: In accordance with the Federal Advisory Committee Act, the purpose of this notice is to announce that the Election Assistance Commission (EAC) has renewed the charters for the Board of Advisors, the Standards Board, the Technical Guidelines Development Committee, and Local Leadership Council for a two-year period through April 13, 2025. The Board of Advisors, the Standards Board, and the Technical Guidelines Development Committee are federal advisory committees under the Federal Advisory Committee Act and created by the Help America Vote Act of 2002. The Local Leadership Council is a discretionary federal advisory committee, established by the EAC on June 8, 2021.

DATES: Renewed through April 13, 2025.

ADDRESSES: Election Assistance Commission, 633 3rd Street NW, Suite 200, Washington, DC 20001.

To Obtain a Copy of the Charters: A complete copy of the Charters are available from the EAC in electronic format. An electronic copy can be downloaded in PDF format on the EAC's website, http://www.eac.gov. In order to obtain a paper copy of the Charters, please mail your request to the U.S. Election Assistance Commission FACA Boards Management at 633 3rd Street NW, Suite 200, Washington, DC 20001.

FOR FURTHER INFORMATION CONTACT: Kristen Muthig, Telephone: (202) 897-9285, Email: kmuthig@eac.gov.

SUPPLEMENTARY INFORMATION: The Board of Advisors, the Standards Board, and the Technical Guidelines Development Committee are Federal advisory committees created by statute whose mission is to advise the EAC through review of the voluntary voting systems guidelines, review of voluntary guidance, and review of best practices recommendations. The Local Leadership Council is a discretionary advisory committee and is made up of 100 local election officials who are current or former officers in each state's local election official association. In accordance with the Federal Advisory Committee Act, Public Law 92-463, as amended, this notice advises interested persons of the renewal of these Charters.

Camden Kelliher,
Associate Counsel, U.S. Election Assistance Commission.

[FR Doc. 2023-08215 Filed 4-18-23; 8:45 am]

BILLING CODE P